FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

Emarat Shipping Inc., 1106 S Technology Cir., Anaheim, CA 92805. Officer: Tareq K. Elbarq, President (Qualifying Individual).

New Pacific Alliance, Inc., 15117 S. Broadway Street, Gardena, CA 90248. Officer: Danny Kim, CEO (Qualifying Individual).

Daystar Global Solutions, Inc., 100 Wallace Ave., Ste. 207, Sarasota, FL 34237. Officer: Jennifer Chung, President (Qualifying Individual).

All Transport Worldwide, Corp., 2816 Timothy Ave., Redondo Beach, CA 90278. Officer: Andres J. Villablanca, CEO (Qualifying Individual).

Non-Vessel-Operating Common Carrier and Ocean Freight Forwarder Transportation Intermediary Applicants

Eagle Transportation, LLC, 63 Ninety Eight Place Blvd., Hattiesburg, MS 39402. Officers: Maria Hurtado, Account Executive (Qualifying Individual), Ronnie Sharpe, President.

U.S. Xpress, Inc. dba Xpress Network Solutions, 4080 Jenkins Road, Chattanooga, TN 37421. Officer: Christine M. Geror, Freight Forwarding Agent (Qualifying Individual).

Mariam International Ltd. Co. dba Liberty Logistics, 939 Poydras Street, Sugarland, TX 77498. Officers: Teresa L. Roberson, Vice President (Qualifying Individual), Suhail Sharief, President.

Ghanem Forwarding, LLC, 1 N Charles Street, Ste. 1200, Baltimore, MD 21201. Officer: Wael Ghanem, General Manager (Qualifying Individual).

Triton Overseas Transport, Inc., 3340 Greens Rd., Bldg. A, Ste. 410, Houston, TX 77032. Officer: William R. Onorato, President (Qualifying Individual).

Ocean Freight Forwarder—Ocean Transportation Intermediary Applicants

ITT Forwarding, Inc., 2537 S. Gessner, Suite 108, Houston, TX 77063. Officers: Edward Schmidt, Vice President (Qualifying Individual), Jon Hulsey, President.

Preferred Movers International, LLC, 49 Forbus Drive, Crossville, TN 38555. Officers: Johnny Simon, Vice President (Qualifying Individual), Robert G. Krumpols, President.

Dated: November 20, 2009.
Karen V. Gregory,
Secretary.

[FR Doc. E9-28263 Filed 11-24-09; 8:45 am]

BILLING CODE 6730-01-P